DEPARTMENT OF STATE

[Public Notice 5241]

Bureau of Western Hemisphere Affairs; Notice of Receipt of Application for a Presidential Permit to Construct a New Commercial Border Crossing at San Luis, Arizona

AGENCY: Department of State.

ACTION: Notice.

SUMMARY: Notice is hereby given that the Department of State has received an application for a Presidential Permit authorizing the construction, operation and maintenance of a new commercial border crossing at San Luis, Arizona, known hereafter as the “San Luis II” crossing. This application has been filed by the Greater Yuma (Arizona) Port Authority. The construction project, which would be carried out in partnership with a number of local, state, federal and bi-national entities, is designed to alleviate pressure on the current Port of Entry at San Luis, Arizona (designated as San Luis I) by allowing for the separation of commercial traffic from non-commercial/privately operated vehicles. The Department of State's jurisdiction with respect to this application is based upon Executive Order 11423, dated August 16, 1968, as amended by Executive Order 12847, dated May 17, 1993, Executive Order 13284, dated January 23, 2003 and Executive Order 13337, dated April 30, 2004. As provided in E.O. 11423, the Department is circulating this application to concerned agencies for comment.

DATES: Interested parties are invited to submit, in duplicate, comments relative to this application on or before January 13, 2006 to John A. Ritchie, Coordinator, U.S.-Mexico Border Affairs, WHA/MEX, Room 4258, Department of State, 2201 C St., NW., Washington, DC 20520.

FOR FURTHER INFORMATION CONTACT: John A. Ritchie, Coordinator, U.S.-Mexico Border Affairs, WHA/MEX, Room 4258, Department of State, 2201 C St., NW., Washington, DC 20520. Telephone: (202) 647-8529, fax: (202) 647-5752.

SUPPLEMENTARY INFORMATION: The application and related documents made part of the record to be considered by the Department of State in connection with this application are available for review in the Office of Mexican Affairs, Border Affairs Unit, Department of State, during normal business hours throughout the comment period. Any questions related to this notice may be addressed to Mr. Ritchie using the contact information above.

Dated: December 2, 2005.
Roberta S. Jacobson,
Director, Office of Mexican Affairs, Department of State.

[FR Doc. E5-7074 Filed 12-7-05; 8:45 am]

BILLING CODE 4710-29-P